DEPARTMENT OF HEALTH AND HUMAN SERVICES

Office of the Assistant Secretary for Administration and Management; Program Support Center; Statement of Organization, Functions, and Delegations of Authority

Part P, Statement of Organization, Functions, and Delegations of Authority for the Department of Health and Human Services, Office of the Assistant Secretary for Administration and Management (AJ), Program Support Center (P), as last amended at 68 FR 69411-12, dated December 12, 2003 is being amended to reflect changes in Chapter PG, “Federal Occupational Health Service (FOHS).” This amendment realigns FOHS functions to increase efficiency, effectiveness, and management controls.

I. Under Chapter PG, “Federal Occupational Health Service” (PG), delete the functions entirely and replace with the following:

Section PEK.00 Mission. The mission of the Federal Occupational Health Service (FOHS) is to improve the health, safety, and productivity of the Federal workforce through the provision of comprehensive, high-quality, customer-focused occupational health services in strategic partnership with Federal agencies nation-wide. The services provided include health and wellness programs, employee assistance, work/life, and environmental health and safety services. The services that FOHS provided include consultations to agency management, program design to meet customer needs, service provider selection, direct provision of services, and program oversight and evaluation.

Section PEK.10 Organization. FOHS is headed by a Director who reports to the Deputy Assistant Secretary for Program Support, and includes the following components:

1. Office of the Director (PGA).

2. Division of Clinical Services (PGB).

3. Division of Employee Assistance Program Services (PGC).

4. Division of Environmental Health Services (PGE).

5. Division of Administration and Resource Management (PGF).

6. Division of Business Development (PGG).

Section PEK.20 Functions.

1. Office of the Director (PGA): The Office of the Director provides executive leadership, policy, guidance and supervision to all FOHS components. It performs the following functions:

a. Ensures that the delivery of a comprehensive occupational health program is driven by quality standards;

b. Provides leadership to a multi-customer, competitive, fee for service, cost centered organizations;

c. Evaluates effective program and consultation to Federal managers concerning management and delivery of occupational health programs;

d. Provides nationwide assistance in planning, implementing and monitoring health programs for Federal agencies on are reimbursable basis including improved environmental, educational, promotional, clinical, information management, and managerial services;

e. Provides leadership and management for improved business results;

f. Promotes workforce productivity and reduces absenteeism, lost time, and related Federal liability through executive guidance and management;

g. Maintains relationships with health officials in other Federal agencies and private organizations; and

h. Participates in policy and program development and implementation for FOHS components.

2. Division of Clinical Services (PGB): The Division of Clinical Services (DCS) designs and delivers comprehensive occupational health and clinical services throughout the Nation to assist client agencies to improve and maintain the physical health of their workforce and to meet regulatory compliance standards regarding occupational health. It performs the following functions:

a. Provides services aimed at promoting healthy work and lifestyle habits and detecting and intervening in those conditions which are deleterious to wellness and productivity;

b. Adopts standards of practice, protocols, and procedures by which clinical services are provided that meet the highest standards established by professional bodies representing appropriate clinical disciplines;

c. Maintains a formal, written system of ancillary program policies to ensure that clinical services are delivered to all clients in accordance with interagency agreements, regardless of location or actual provider of service;

d. Conducts periodic reviews and program audits, and uses performance improvement techniques to assure that the highest quality clinical services are delivered in a compliant, effective, efficient, and consistent manner;

e. Conducts applied research, training, and demonstration projects to address clinical needs, including specific programs requested by clients;

f. Designs and delivers customized programs and services including facility and workplace designs for clients with special needs;

g. Develops methods for evaluation of clinical services and conducts such evaluations on a regular basis;

h. Maintains clinical services information and records; and

i. Assures that all clinical consultation and services have been fully reimbursed by customers.

3. Division of Employee Assistance Program Services (PGC): The Division of Employee Assistance Program Services (DEAPS) designs and delivers comprehensive employee assistance program (EAP) services throughout the Nation to assist clients with a spectrum of personal problems and workplace issues affecting workplace functioning and productivity. It performs the following functions:

a. Provides services aimed at promoting healthy work and lifestyle habits and preventing, detecting and intervening in those conditions that are deleterious to wellness and productivity;

b. Adopts standards of practice, protocols, and procedures by which EAP services are provided that meet the highest standards established by professional bodies representing appropriate EAP disciplines;

c. Maintains a formal, written system of ancillary program policies to ensure that EAP services are delivered to all clients in accordance with interagency agreements, regardless of location or actual provider of service;

d. Conducts periodic reviews and program audits, and uses performance improvement techniques to assure that the highest quality EAP services are delivered in a compliant, effective, efficient, and consistent manner;

e. Conducts analyses, trainings, and demonstration projects to address EAP needs, including specific programs requested by clients;

f. Develops and implements methods for evaluation of EAP services;

g. Maintains EAP services information and records; and

h. Assures that all EAP services have been fully reimbursed by customers.

4. Division of Environmental Health Services (PGE): The Division of Environmental Health Services (DEHS) designs and delivers comprehensive occupational and environmental health (OEH) services throughout the Nation to assist clients with the complete spectrum of OEH issues and concerns. It performs the following functions:

a. Provides services aimed at promoting healthy and safe work environments and conditions and detecting and intervening in those conditions which are deleterious to the safety and health of the Federal workforce;

b. Provides consultation and services relative to the identification, evaluation and control of exposure to chemical, biological, physical, radiological, dust and/or safety hazards in Federal facilities, operations, and workplaces;

c. Adopts standards of practice, protocols, and procedures by which OEH services are provided that meet the highest standards established by professional bodies representing appropriate OEH disciplines;

d. Maintains a formal, written system of ancillary program protocols and policies to ensure that OEH services are delivered to all agencies and programs in accordance with established procedures and interagency agreements;

e. Conducts periodic technical and administrative reviews and program audits to assure that the highest quality OEH services are delivered in a cost-effective, efficient, and consistent manner;

f. Conducts applied research, training, and demonstration projects to address Federal OEH needs and designs specialized OEH programs for clients based on individual agency needs;

g. Develops methods for evaluation of OEH services and conducts such evaluations on request;

h. Maintains OEH service information and administrative and technical records; and

i. Assures that all consultation and services have been fully reimbursed by customers.

5. Division of Administration and Resource Management (PGF): The Division of Administration and Resource Management (DARM) oversees all budgeting, finance, contracting, human resources, and administrative activities for FOHS. It performs the following functions:

a. Provides administration of and expertise to FOHS regarding finance, budgeting, human capital, business technology support, operations support, strategic planning, and performance measurement;

b. Develops, tests, installs, and operates business applications needed to support FOHS services under agreements with its customer Federal agencies;

c. Effectively and efficiently recruits, develops, retains, and strategically manages FOHS workforce;

d. Initiates, manages, and oversees all contracts and other procurements for FOHS;

e. Develops and operates shared services for contracting, cost comparison, analysis, and program formulation;

f. Implements and enforces rigorous internal management controls to ensure accountability of resources;

g. Plans, develops, and monitors policy;

h. Monitors, evaluates, and recommends enhancements base on customer satisfaction instruments and data;

i. Maintains information and administrative and technical records; and

j. Provides oversight for all aspects of customer billing and ensures that all consultations and services have been fully reimbursed by customers.

6. Division of Business Development (PGG): The Division of Business Development (DBD) oversees all agreement activity, business growth, and customer satisfaction within FOHS. It performs the following functions:

a. Provides oversight for all account management activities across FOHS product divisions and directly interfaces as the primary point of contact between Federal agency representatives and FOHS;

b. Provides services aimed at delivering superior customer service between FOHS and its Federal agency customers;

c. Develops and utilizes standardized and centralized processes for account management, customer service and business development that promote cost efficiencies and facilitate systematic and consistent application of business practices across the organization;

d. Responds to business growth opportunities and requests for proposals;

e. Develops public relations and marketing plans to include market analysis, forecasting of contract opportunities, procurement and contract analysis, agency profiles including assessment of demographics, occupational health needs, and business case analyses;

f. Presents an array of occupational health solutions and services to assist Federal agencies to meet their occupational health and safety needs;

g. Provides responsive customer service, including assessment of customer satisfaction and compliant resolution; and

h. Assures that all consultation and services have been fully reimbursed by customers.

III. Continuation of Policy: Except as inconsistent with this reorganization, all statements of policy and interpretations with respect to the functions contained in this reorganization, heretofore issued and in effect prior to the date of this reorganization, are continued in full force and effect.

IV. Delegation of Authority: All delegations and re-delegations of authority previously made to officials and employees of the affected organizational components will continue in them or their successors pending further re-delegation, provided they are consistent with this reorganization.

V. Funds, Personnel and Equipment: Transfer of organizations and functions affected by this reorganization shall be accompanied by direct and support funds, positions, personnel, records, equipments, supplies and other sources.

Dated: November 14, 2007.
Joe W. Ellis,
Assistant Secretary for Administration and Management.

[FR Doc. 07-5846 Filed 11-27-07; 8:45 am]

BILLING CODE 4168-17-M